DEPARTMENT OF ENERGY

Federal Energy Regulatory Commission

[Docket No. RT01-88-006]

Alliance Companies, et al; Notice of Filing

September 7, 2001.

Take notice that on August 31, 2001, Ameren Services Company (on behalf of Union Electric Company and Central Illinois Public Service Company), American Electric Power Service Corporation (on behalf of Appalachian Power Company, Columbus Southern Power Company, Indiana Michigan Power Company, Kentucky Power Company, Kingsport Power Company, Ohio Power Company, and Wheeling Power Company), Consumers Energy Company and Michigan Electric Transmission Company, The Dayton Power and Light Company, The Detroit Edison Company and International Transmission Company, Exelon Corporation (on behalf of Commonwealth Edison Company and Commonwealth Edison Company of Indiana, Inc.), FirstEnergy Corp. (on behalf of American Transmission Systems, Inc., The Cleveland Electric Illuminating Company, Ohio Edison Company, Pennsylvania Power Company, and The Toledo Edison Company), Illinois Power Company, Northern Indiana Public Service Company, and Virginia Electric and Power Company (collectively, the “Alliance Companies”), submitted a compliance filing addressing the various compliance matters discussed by the Commission's July 12, 2001, Order on RTO Filing (“July 12th Order”) in the above-referenced proceedings.

In compliance with the July 12th Order, simultaneously with this filing, the Alliance Companies have submitted a rate filing to address outstanding Alliance RTO OATT issues. This compliance filing explains the changes to the terms and conditions of the Alliance RTO OATT made to address all outstanding non-rate tariff issues, raised but not resolved in a prior order in these proceedings, including issues raised regarding the Alliance RTO energy imbalance proposal and generator interconnection procedures. This filing also addresses other outstanding compliance issues, including: (i) a proposal for compensation to embedded transmission owners that participate in the Alliance RTO, (ii) details for the development of an independent market monitoring plan, (iii) a revised proposal for a stakeholder advisory process, and (iv) revisions to the Operating Protocol, the Planning Protocol, and the Pricing Protocol, as required by the July 12th Order.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 9, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23145 Filed 9-14-01; 8:45 am]

BILLING CODE 6717-01-P